DEPARTMENT OF ENERGY

Office of Energy Efficiency and Renewable Energy

10 CFR Part 430

[Docket Number EE-RM/STD-00-550]

RIN 1904-AB08

Energy Conservation Standards for Distribution Transformers

AGENCY: Office of Energy Efficiency and Renewable Energy, Department of Energy.

ACTION: Notice of public workshop and availability of the Framework Document for Distribution Transformer Efficiency Standards.

SUMMARY: The Department of Energy (DOE or Department) will hold an informal public workshop to discuss and receive comments on issues it will address and the process it will follow in considering the adoption of energy conservation standards for electric distribution transformers. The Department also encourages written comments on these subjects. To facilitate this process, the Department prepared a Framework Document, a draft of which was made available on October 2, 2000.

DATES: The public workshop will be held on Wednesday, November 1, 2000, from 9:00 a.m. to 5:00 p.m. Written comments should be submitted by December 1, 2000.

ADDRESSES: The workshop will be held at the U.S. Department of Energy, Forrestal Building, Room 1E-245, 1000 Independence Avenue, SW., Washington, DC 20585. (Please note that foreign nationals visiting DOE Headquarters are subject to advance security screening procedures. If you are a foreign national and wish to participate in the workshop, please inform DOE of this fact as soon as possible by contacting Ms. Brenda Edwards-Jones at (202) 586-2945 so that the necessary procedures can be completed.)

On October 2, 2000, the draft Framework Document was placed on the DOE website at: http://www.eren.doe.gov/buildings/codes_standards/applbrf/dist_transformer.html.

Written comments are welcome, especially following the workshop. Please submit written comments to: Ms. Brenda Edwards-Jones, U.S. Department of Energy, Office of Energy Efficiency and Renewable Energy, “Energy Conservation Program for Consumer Products: Energy Conservation Standards for Distribution Transformers, Docket No. EE-RM/STD-00-550”, EE-41, 1000 Independence Avenue, SW., Washington, DC 20585-0121. Telephone: (202) 586-2945; Telefax: (202) 586-4617. You should label comments both on the envelope and on the documents, and submit them for DOE receipt by December 1, 2000. Please submit one signed copy and a computer diskette (WordPerfect 8) or 10 copies (no telefacsimiles). The Department will also accept electronically-mailed comments, e-mail to Brenda.Edwards-Jones@ee.doe.gov, but you must supplement such comments with a signed hard copy.

Copies of the transcript of the public workshop, public comments received, the Framework Document, and this notice may be read at the Freedom of Information Reading Room, U.S. Department of Energy, Forrestal Building, Room 1E-190, 1000 Independence Avenue, SW., Washington, DC 20585, (202) 586-3142, between the hours of 9:00 a.m. and 4:00 p.m., Monday through Friday, except Federal holidays.

FOR FURTHER INFORMATION CONTACT: Carl Adams, U.S. Department of Energy, Office of Energy Efficiency and Renewable Energy, EE-41, 1000 Independence Avenue, SW., Washington, DC 20585-0121, (202) 586-9142, email: carl.adams@ee.doe.gov, or Edward Levy, Esq., U.S. Department of Energy, Office of General Counsel, GC-72, 1000 Independence Avenue, SW., Washington, DC 20585, (202) 586-9507, email: Edward.Levy@hq.doe.gov.

SUPPLEMENTARY INFORMATION: On October 22, 1997, the Secretary determined, based on the best information currently available, that it appears energy conservation standards for electric distribution transformers would be technologically feasible and economically justified, and would result in a significant energy savings. This determination initiated the process of establishing, by notice and comment rulemaking, test procedures and energy conservation standards for this product. Today's notice and the subject Framework Document and workshop mark the initial steps in the process for considering the energy conservation standards.

The Department has prepared the Framework Document to explain and discuss the process, analyses, and issues concerning the development of such standards. For many of the issues and analyses, the Framework Document sets forth approaches that the Department is considering.

The main focus of the workshop will be to discuss the analyses and issues contained in Sections 3 and 4 of the Framework Document. For each item listed, the Department will make a presentation with a discussion to follow. In addition, the Department will also make a brief presentation on the rulemaking process for distribution transformers contained in Section 2. The Department encourages those who wish to participate in the workshop to obtain the Framework Document and be prepared to discuss the contents. However, workshop participants need not limit their discussions to these topics. The Department is also interested in receiving views concerning other issues that participants believe would affect energy conservation standards for distribution transformers. The Department also welcomes all interested parties, whether or not they participate in the workshop, to submit in writing by December 1, 2000, comments and information on the matters addressed in the Framework Document and on other matters relevant to consideration of standards for distribution transformers.

The workshop will be conducted in an informal, conference style. A court reporter will be present to record the minutes of the meeting. There shall be no discussion of proprietary information, costs or prices, market shares, or other commercial matters regulated by antitrust law.

After the workshop and expiration of the period for submitting written statements, the Department will begin collecting data and conducting the analyses as discussed at the workshop and in consideration of the comments received.

If you would like to participate in the workshop, receive workshop materials, or be added to the DOE mailing list to receive future notices and information regarding distribution transformers, please contact Ms. Brenda Edwards-Jones at (202) 586-2945.

Issued in Washington, DC, on October 2, 2000.
Dan W. Reicher,
Assistant Secretary, Energy Efficiency and Renewable Energy.

[FR Doc. 00-25770 Filed 10-5-00; 8:45 am]

BILLING CODE 6450-01-P